DEPARTMENT OF HEALTH AND HUMAN SERVICES

National Institutes of Health

Interagency Coordinating Committee on the Validation of Alternative Methods Communities of Practice Webinar on New Approach Methodologies To Assess (Developmental) Neurotoxicity; Notice of Public Webinar; Registration Information

AGENCY: National Institutes of Health, HHS.

ACTION: Notice.

SUMMARY: The Interagency Coordinating Committee on the Validation of Alternative Methods (ICCVAM) announces a public webinar “New Approach Methodologies to Assess (Developmental) Neurotoxicity.” The webinar is organized on behalf of ICCVAM by the National Toxicology Program Interagency Center for the Evaluation of Alternative Toxicological Methods (NICEATM). Interested persons may participate via the web meeting platform. Time will be allotted for questions from the audience. Information about the webinar and registration are available at https://ntp.niehs.nih.gov/go/commprac-2022.

DATES:

Webinar: January 25, 2022, 10:00 a.m. to approximately 11:30 a.m. EST.

Registration for Webinar: January 4, 2022, until 11:30 a.m. EST January 25, 2022.

Registration to view the webinar is required.

ADDRESSES: Webinar web page: https://ntp.niehs.nih.gov/go/commprac-2022.

FOR FURTHER INFORMATION CONTACT: Dr. Nicole Kleinstreuer, Acting Director, NICEATM, email: nicole.kleinstreuer@nih.gov, telephone: (984) 287-3150.

SUPPLEMENTARY INFORMATION:

Background: ICCVAM promotes the development and validation of toxicity testing methods that protect human health and the environment while replacing, reducing, or refining animal use. ICCVAM also provides guidance to test method developers and facilitates collaborations that promote the development of new test methods. To address these goals, ICCVAM will hold a Communities of Practice webinar on “New Approach Methodologies to Assess (Developmental) Neurotoxicity.”

The nervous system has unique characteristics and can have different sensitivity to toxic substances compared to other organ systems. Effects of chemicals on the nervous system can be affected by concurrent exposures to other substances. During early life stages, exposure to neuroactive drugs and environmental toxins can interact and/or interfere with developmental processes of the brain, which can in turn result in structural and/or functional alterations. Traditional (developmental) neurotoxicity tests use mammals, but the high cost and low throughput of these tests make them impractical to use for all chemicals of potential concern. In addition, it is challenging to correlate the interpretation of animal data to complex human neurological effects. Therefore, interest is increasing in exploring human cell-based assays, computational systems, and other alternatives to traditional animal tests that can be used to predict chemical effects on the developing and adult nervous system.

“New approach methodologies” (NAMs) refers to any non-animal technology or approach, or combination of these, that can be used to provide information on chemical hazard and risk assessment. This webinar will discuss NAMs that are being considered or developed for assessing potential effects of chemicals on the nervous system. Key insights and ongoing activities will be described in two presentations featuring speakers from U.S. federal research and regulatory agencies. The preliminary agenda and additional information about presentations will be posted at https://ntp.niehs.nih.gov/go/commprac-2022 as available.

Webinar and Registration: This webinar is open to the public with time scheduled for questions by participants following each presentation. Registration for the webinar is required and will be open from January 4, 2022, through 11:30 a.m. EST on January 25, 2022. Registration is available at https://ntp.niehs.nih.gov/go/commprac-2022. Interested individuals are encouraged to visit this web page to stay abreast of the most current webinar information. Registrants will receive instructions on how to access and participate in the webinar in the email confirming their registration.

Background Information on ICCVAM and NICEATM: ICCVAM is an interagency committee composed of representatives from 17 federal regulatory and research agencies that require, use, generate, or disseminate toxicological and safety testing information. ICCVAM conducts technical evaluations of new, revised, and alternative safety testing methods and integrated testing strategies with regulatory applicability. ICCVAM also promotes the scientific validation and regulatory acceptance of testing methods that more accurately assess the safety and hazards of chemicals and products and replace, reduce, or refine animal use.

The ICCVAM Authorization Act of 2000 (42 U.S.C. 285l-3) establishes ICCVAM as a permanent interagency committee of the National Institute of Environmental Health Sciences and provides the authority for ICCVAM involvement in activities relevant to the development of alternative test methods. Additional information about ICCVAM can be found at https://ntp.niehs.nih.gov/go/iccvam.

NICEATM administers ICCVAM, provides support for ICCVAM-related activities, and conducts and publishes analyses and evaluations of data from new, revised, and alternative testing approaches. NICEATM and ICCVAM work collaboratively to evaluate new and improved testing approaches applicable to the needs of U.S. federal agencies. NICEATM and ICCVAM welcome the public nomination of new, revised, and alternative test methods and strategies for validation studies and technical evaluations. Additional information about NICEATM can be found at https://ntp.niehs.nih.gov/go/niceatm.

Dated: December 16, 2021.
Brian R. Berridge,
Associate Director, National Toxicology Program.

[FR Doc. 2021-27692 Filed 12-21-21; 8:45 am]

BILLING CODE 4140-01-P